DEPARTMENT OF LABOR

Mine Safety and Health Administration

Proposed Information Collection Request Submitted for Public Comment and Recommendations; Notification of Legal Identity

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before November 20, 2001.

ADDRESSES: Send comments to Lynnette M. Haywood, Deputy Director, Administration and Management, 4015 Wilson Boulevard, Room 611, Arlington, VA 22203-1984. Commenters are encouraged to send their comments on a computer disk, or via Internet E-mail to 1haywood@msha.gov, along with an original printed copy. Ms. Haywood can be reached at (703) 235-1383 (voice), or (703) 235-1563 (facsimile).

FOR FURTHER INFORMATION CONTACT: Lynnette M. Haywood, Deputy Director, Administration and Management, U.S. Department of Labor, Mine Safety and Health Administration, Room 611, 4015 Wilson Boulevard, Arlington, VA 22203-1984. Ms. Haywood can be reached at 1haywood@msha. gov (Internet E-mail), (703) 235-1383 (voice), or (703) 235-1563 (facsimile).

SUPPLEMENTARY INFORMATION:

I. Background

Title 30 CFR part 41 has implemented this requirement and provides for the mandatory use of MSHA From 2000-7, Legal Identity Report, for notifying MSHA of the legal identity of the mien operator. The legal identity for a mien operator is fundamental to enable the Secretary to properly ascertain the identity of persons charged with violations of mandatory standards. It is also used in the assessment of civil penalties which, by statute, must take into account the size of the business, its economic viability, and its history of previous violations. Because of the rapid and frequent turnover in mining company ownership and statutory considerations regarding penalty assessment, the operator is required to file information regarding ownership interest in other mines held by the operator and relevant persons in a partnership, corporation or other organization. This information is also necessary to the Office of the Solicitor in determining proper parties to actions arising under the Federal Mine Safety and Health Act of 1977 (the Act).

II. Desired Focus of Comments

Currently, the Mine Safety and Health Administration (MSHA) is soliciting comments concerning the proposed extension of the information collection related to the Notification of Legal Identity. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contracting the employee listed above in the For Further Information Contact section of this notice for a hard copy.

III. Current Actions

MSHA uses the information to properly ascertain the identity of persons chargeable with violations of mandatory safety and health standards and in the assessment of civil penalties. The Office of the Solicitor uses the information to expedite service of documents upon the mine operator.

Type of Review: Extension and Revision of Form.

Agency: Mine Safety and Health Administration.

Title: Notification of Legal Identity.

OMB Number: 1219-0008.

Affected Public: Business or other for-profit.

Frequency: On occasion.

Recordkeeping: Life of Mine Ownership.

Cite/Reference/Form/etc.: 30 CFR 41.20.

Total Respondents: 6,625.

Total Responses: 6,625.

Average Time per Response: .2618 minutes.

Estimated Total Burden Hours: 1,735.

Total Capital/Startup Costs: 0.

Total Operating and Maintenance Costs: $1,693.20.

Comments submitted in response to this notice will be summarized and/or included in the request for Office of Management and Budget approval of the information collection request; they will also become a matter of public record.

Dated: September 14, 2001.
Lynnette M. Haywood,
Deputy Director, Administration and Management.

[FR Doc. 01-23556 Filed 9-20-01; 8:45 am]

BILLING CODE 4510-43-M